DEPARTMENT OF ENERGY

Agency Information Collection Extension

AGENCY: U.S. Department of Energy.

ACTION: Notice and Request for Comments.

SUMMARY: The Department of Energy (DOE), pursuant to the Paperwork Reduction Act of 1995, intends to extend for three years, an information collection request with the Office of Management and Budget (OMB). Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before January 9, 2012. If you anticipate difficulty in submitting comments within that period, contact the person listed below as soon as possible.

ADDRESSES: Written comments may be sent to Robert M. Myers, U.S. Department of Energy, 1000 Independence Avenue SW., Washington, DC 20585-1615, 202-287-1584, or by fax at (202) 287-1349, or by email at robert.myers@hq.doe.gov.

FOR FURTHER INFORMATION CONTACT: Information regarding data collection is available at http://www.wfis.lm.doe.gov. Reporting requirements are found in DOE Order 350.1, Contractor Human Resource Management Programs, http://www.directives.doe.gov/directives/current-directives/350.1-BOrder-Chg3/view. Requests for additional information should be directed to Robert Myers at the address listed above.

SUPPLEMENTARY INFORMATION: This information collection request contains: (1) OMB No.: 1910-0600; (2) Information Collection Request Title: Industrial Relations; (3) Type of Review: Renewal; (4) Purpose: This information is required for management oversight of the Department of Energy's Facilities Management Contractors and to ensure that the programmatic and administrative management requirements of the contract are managed efficiently and effectively; (5) Annual Estimated Number of Respondents: 316; (6) Annual Estimated Number of Total Responses: 316; (7) Annual Estimated Number of Burden Hours: 8,140; (8) Annual Estimated Reporting and Recordkeeping Cost Burden: $0.

Statutory Authority: 42 U.S.C. 7256; 48 CFR 970.0370-1.

Issued in Washington, DC, on November 2, 2011.
Patrick M. Ferraro,
Acting Director, Office of Procurement and Assistance Management (OPAM).

[FR Doc. 2011-29018 Filed 11-8-11; 8:45 am]

BILLING CODE 6450-01-P